DEPARTMENT OF ENERGY

Federal Energy Regulatory Commission

[Docket No. EL04-112-000, et al.]

The Governors, et al.; Electric Rate and Corporate Filings

January 28, 2005.

The following filings have been made with the Commission. The filings are listed in ascending order within each docket classification.

1. The Governors of Connecticut, Maine, Massachusetts, New Hampshire, Rhode Island and Vermont

[Docket No. EL04-112-000]

On January 11, 2005, the Governors of Connecticut, Maine, Massachusetts, New Hampshire, Rhode Island, and Vermont (New England Governors) filed a motion to lodge amendments to the Joint Petition for Declaratory Order to Form a New England Regional State Committee, filed on June 25, 2004 in the above-docketed proceeding.

Comment Date: 5 p.m. eastern time on February 7, 2005.

2. Wisconsin Public Service Corporation, WPS Power Development, Inc., WPS Energy Services, Inc.

[Docket Nos. ER95-1528-010 and ER96-1088-035]

Take notice that WPS Resources Corporation (WPSR), on January 24, 2005, tendered for filing its response to the Commission's January 3, 2005 deficiency letter issued in Docket Nos. ER95-1528-008 and ER96-1088-033 regarding a renewal of the market-based rate authority of WPSR's subsidiaries. WPSR states that part of this information was submitted on a confidential basis. In addition, WPSR states that it is submitting a market power analyses using the footprint of the Midwest System Independent Transmission System, Inc. as a whole.

Comment Date: 5 p.m. eastern time on February 14, 2005.

3. Merrill Lynch Capital Services, Inc.

[Docket No. ER99-830-009]

Take notice that on January 21, 2005, Merrill Lynch Capital Services, Inc. (MLCS) filed a triennial updated market analysis.

MLCS states that copies of the filing were served on the parties listed on the official service list in this proceeding.

Comment Date: 5 p.m. eastern time on February 11, 2005.

4. Entergy Services, Inc.

[Docket No. ER01-2214-005]

Take notice that on January 24, 2005, Entergy Services, Inc., (Entergy) filed a refund report in the above captioned docket relating to Entergy's ancillary services schedules 3-6.

Entergy states that a copy of the refund report has been served on all parties to the service lists in the above-referenced proceedings and State commissions in the Entergy region.

Comment Date: 5 p.m. eastern time on February 14, 2005.

5. Commonwealth Edison Company and Commonwealth Edison Company of Indiana, Inc.; PJM Interconnection, LLC and Commonwealth Edison Company and Commonwealth Edison Company of Indiana, Inc.

[Docket Nos. ER03-1335-003, ER04-367-005]

Take notice that on January 21, 2005, Commonwealth Edison Company and PJM Interconnection, L.L.C. filed a compliance filing pursuant to the Commission's Order issued December 22, 2004 in Docket No. ER03-1335-000, et al., 109 FERC ¶ 61,228.

Comment Date: 5 p.m. eastern time on February 11, 2005.

6. Pacific Gas and Electric Company

[Docket No. ER04-443-005]

Take notice that on January 21, 2005, Pacific Gas and Electric Company (PG&E) tendered for filing revisions to its Transmission Owner Tariff, FERC Electric Tariff, Sixth Revisied Volume No. 5. PG&E states that the revisions are intended to comply with Commission Order Nos. 2003 and 2003-A. PG&E requests that the revisions become effective on the same date as companion filings made by the California Independent System Operator Corporation on January 5, 2005, in compliance with Order No. 2003.

Comment Date: 5 p.m. eastern time on February 11, 2005.

7. Mystic I, LLC; Mystic Development, LLC; Fore River Development, LLC

[Docket Nos. ER04-657-004, ER04-660-004, ER04-659-004]

Take notice that on January 21, 2005, Mystic I, LLC, Mystic Development, LLC and Fore River Development, LLC submitted an amendment to their September 24, 2004 filing, as supplemented on October 1, 2004, of a joint triennial updated market analysis.

Comment Date: 5 p.m. eastern time on February 11, 2005.

8. Midwest Independent Transmission System Operator, Inc.; Public Utilities with Grandfathered Agreements in the Midwest ISO Region

[Docket Nos. ER04-691-019, EL04-104-018]

Take notice that on January 21, 2005, the Midwest Independent Transmission System Operator, Inc. (Midwest ISO) submitted a compliance filing pursuant to the Commission's August 6, 2004 order, Midwest Independent Transmission System Operator, Inc., et al., 108 FERC ¶ 61,163 (2004) and its December 20, 2004 order, Midwest Independent Transmission System Operator, Inc., et al., 109 FERC ¶ 61,285 (2004).

The Midwest ISO states that it has electronically served a copy of this filing, with attachments, upon all Midwest ISO members, member representatives of transmission owners and non-transmission owners, the Midwest ISO advisory committee participants, policy subcommittee participants, as well as all State commissions within the region.

In addition, the Midwest ISO states that the filing has been electronically posted on the Midwest ISO's Web site at http://www.midwestiso.org under the heading “Filings to FERC” for other interested parties in this matter. The Midwest ISO indicates that it will provide hard copies to any interested party upon request.

Comment Date: 5 p.m. eastern time on February 11, 2005.

9. Milford Power Company, LLC

[Docket No. ER05-163-001]

Take notice that on January 21, 2005, Milford Power Company, LLC (Milford) tendered for filing its responses to the Commission's deficiency letter issued December 22, 2004 regarding Milford's November 1, 2004 filing in Docket No. ER05-163-000.

Comment Date: 5 p.m. eastern time on February 11, 2005.

10. Kansas City Power & Light Company

[Docket No. ER05-177-006]

Take notice that on January 21, 2005, Kansas City Power & Light Company (KCPL) submitted a compliance filing pursuant to the Commission's order issued December 28, 2004 in Docket No. ER05-177-000. KCPL states that this filing pertains to service schedules for the City of Marshall, Missouri.

KCPL states that copies of the filing were served upon the City of Marshall, Missouri as well as the Missouri Public Service Commission and the Kansas State Corporation Commission.

Comment Date: 5 p.m. eastern time on February 11, 2005.

11. Entergy Louisiana, Inc.; Entergy Services, Inc.; Perryville Energy Partners, LLC.

[Docket Nos. ER05-188-001, ER05-189-001, ER05-191-001]

Take notice that on January 21, 2005, Perryville Energy Partners, LLC (PEP), Entergy Services, Inc. (ESI) and Entergy Louisiana, Inc. (ELI) submitted additional information amending the November 5, 2004 filings of PEP in Docket No. ER05-191-000, ESI in Docket No. ER05-189-000 and ELI in Docket No. ER05-188-000 in response to the Commission's deficiency letter issued December 29, 2004 in the above-referenced proceedings.

Comment Date: 5 p.m. eastern time on February 11, 2005.

12. El Paso Electric Company

[Docket No. ER05-201-001]

Take notice that on January 21, 2005, El Paso Electric Company (EPE) submitted a compliance filing pursuant to the Commission's Letter Order issued January 6, 2005 in Docket No. ER05-201-000.

EPE states that a copy of the filing was served on the parties on the official service list for this proceeding, the Public Utility Commission of Texas, the New Mexico Regulatory Commission and the Public Service Company of New Mexico.

Comment Date: 5 p.m. eastern time on February 11, 2005.

13. PacifiCorp

[Docket No. ER05-278-001]

Take notice that on January 24, 2005, PacifiCorp tendered for filing in accordance with 18 CFR 35 of the Commission's rules and regulations an amendment to its filing dated November 29, 2004 under FERC Docket No. ER05-278-000.

PacifiCorp states that copies of this filing were supplied to the Public Utility Commission of Oregon, the Washington Utilities and Transportation Commission, and NorthWestern Energy.

Comment Date: 5 p.m. eastern time on February 14, 2005.

14. Duke Energy Corporation

[Docket No. ER05-281-001]

Take notice that on January 21, 2005, Duke Energy Corporation, on behalf of Duke Electric Transmission (collectively Duke) filed an amendment of its December 1, 2004 filing of an executed revised Network Integration Service Agreement with North Carolina Electric Membership Corporation (NCEMC) which is designated as Fourth Revised Service Agreement No. 208 under Duke Electric Transmission FERC Electric Tariff Third Revised Volume No. 4.

Duke states that copies of the filing were served on NCEMC and the South Carolina and North Carolina State public service commissions.

Comment Date: 5 p.m. eastern time on February 11, 2005.

15. JPMorgan Chase Bank, N.A.

[Docket No. ER05-283-002]

Take notice that on January 24, 2005, JPMorgan Chase Bank, N.A. (JPMCB) submitted an amendment to its filing dated January 13, 2005 on market power analysis to reflect recent changes in generation ownership in Docket No. ER05-283-002. JPMCB states that this filing replaces the market power analysis filed on January 13, 2005, in support of: JPMCB's December 2, 2004 request for acceptance of JPMCB rate schedule FERC No. 1; the granting of certain blanket approvals, including the authority to sell electricity at market-based rates; and the waiver of certain Commission regulations. JPMCB also states that it intends to engage in wholesale electric energy and capacity transactions as a marketer and a broker. JPMCB indicates that it is not in the business of generating or transmitting electric power.

Comment Date: 5 p.m. eastern time on February 14, 2005.

16. PacifiCorp

[Docket No. ER05-296-001]

Take notice that on January 24, 2005, PacifiCorp tendered for filing in accordance with 18 CFR 35 of the Commission's rules and regulations an amendment to its filing dated December 3, 2004 under FERC Docket No. ER05-296-000.

PacifiCorp states that copies of this filing were supplied to the Public Utility Commission of Oregon, the Washington Utilities and Transportation Commission, and the Milton-Freewater Electric Department.

Comment Date: 5 p.m. eastern time on February 14, 2005.

17. PacifiCorp

[Docket No. ER05-299-001]

Take notice that on January 24, 2005 PacifiCorp tendered for filing in accordance with 18 CFR 35 of the Commission's rules and regulations an amendment to its filing dated December 3, 2004 under FERC Docket No. ER05-299-000.

PacifiCorp states that copies of this filing were supplied to the Public Utility Commission of Oregon, the Washington Utilities and Transportation Commission, and the Central Lincoln People's Utility District.

Comment Date: 5 p.m. eastern time on February 14, 2005.

18. PacifiCorp

[Docket No. ER05-301-001]

Take notice that on January 24, 2005, PacifiCorp tendered for filing in accordance with 18 CFR 35 of the Commission's rules and regulations an amendment to its filing dated December 3, 2004 under FERC Docket No. ER05-301-000.

PacifiCorp states that copies of this filing were supplied to the Public Utility Commission of Oregon, the Washington Utilities and Transportation Commission, and the Utah Associated Municipal Power Systems.

Comment Date: 5 p.m. eastern time on February 14, 2005.

19. Telemagine, Inc.

[Docket Nos. ER05-419-001, ER05-419-002]

Take notice that on January 21, 2005 and January 27, 2005, Telemagine, Inc. (Telemagine) filed amendments to its January 4, 2005 petition for acceptance of initial rate schedule, waivers and blanket authority.

Comment Date: 5 p.m. eastern time on February 14, 2005.

20. Transmission Owners of the Midwest Independent, Transmission System Operator Inc.

[Docket No. ER05-447-001]

Take notice that on January 26, 2005, the Transmission Owners of the Midwest Independent Transmission System Operator (Midwest ISO Transmission Owners) submitted an amendment to the proposed Schedule 23 to the Midwest Independent Transmission System Operator, Inc.'s tariff, that was filed January 13, 2005 in Docket No. ER05-447-000.

The Midwest ISO Transmission Owners state that they are serving this filing on all Midwest ISO's affected customers as well as on all applicable State commissions. The Midwest ISO also states that it will post a copy on its home page.

Comment Date: 5 p.m. eastern time on February 4, 2005.

21. Public Service Company of New Mexico

[Docket No. ER05-471-000]

Take notice that on January 21, 2005, Public Service Company of New Mexico (PNM) submitted for filing two executed service agreements with Texas-New Mexico Power Company (TNMP) for firm point-to-point transmission service. PNM requests a January 1, 2005 effective date for each agreement.

PNM states that copies of the filing have been sent to TNMP, the New Mexico Public Regulation Commission and the New Mexico Attorney General.

Comment Date: 5 p.m. eastern time on February 11, 2005.

22. California Independent System Operator Corporation

[Docket No. ER05-479-000]

Take notice that on January 21, 2005, the California Independent System Operator Corporation (ISO) submitted an informational filing in accordance with Article IX, section B of the Stipulation and Agreement approved by the Commission on May 28, 1999, California Independent System Operator Corp., 87 FERC ¶ 61,250 (1999) (Stipulation and Agreement). ISO states that this provision requires the ISO to provide on a confidential basis to the Commission: (1) Information regarding any notice from an RMR Unit requesting a change of Condition; (2) the date the chosen Condition will begin; and (3) if the change is from Condition 2, the applicable level of Fixed Option Payment. ISO further states as required by the provision, it has provided notice of the changes of condition described in the informational filing (subject to the applicable Non-Disclosure and Confidentiality Agreement in the RMR Contract) to the designated RMR contact persons at the California Public Utilities Commission, the California Electricity Oversight Board, the applicable Responsible Utilities, and the relevant RMR Owners.

Comment Date: 5 p.m. eastern time on February 11, 2005.

23. Pacific Gas and Electric Company

[Docket No. ER05-480-000]

Take notice that on January 21, 2005, Pacific Gas and Electric Company (PG&E), submitted proposed amendments to the Scheduling Coordinator Services Tariff, FERC Electric Tariff First Revised Volume No. 9 to recover the cost PG&E incurs from the California Independent System Operator Corporation as Scheduling Coordinator for certain existing transmission service customers.

PG&E states that copies of this filing have been served upon the California Public Utilities Commission and all parties designated on the official service lists in Docket Nos. ER00-565-000 and ER04-1233-000.

Comment Date: 5 p.m. eastern time on February 11, 2005.

24. Trimont Wind I LLC

[Docket No. ER05-481-000]

Take notice that on January 21, 2005, Trimont Wind I LLC (Trimont) submitted an application for authorization to sell energy, capacity and ancillary services at market-based rates. Trimont also requests that the Commission grant waivers and blanket approvals provided to applicants that receive authority for market-based rates.

Comment Date: 5 p.m. eastern time on February 11, 2005.

25. Cottonwood Energy Company LP

[Docket No. ER05-483-000]

Take notice that on January 24, 2005, Cottonwood Energy Company LP, (Cottonwood) submitted for filing, pursuant to section 205 of the Federal Power Act (16 U.S.C. 824d), and part 35 of the Commission's regulations (18 CFR part 35), a rate schedule for reactive power to be provided under the amended and restated interconnection agreement between Cottonwood Energy Company LP and Entergy Gulf States, Inc. Cottonwood requests an effective date of February 1, 2005.

Comment Date: 5 p.m. eastern time on February 14, 2005.

26. Puget Sound Energy, Inc.

[Docket No. ER05-484-000]

Take notice that on January 24, 2005, Puget Sound Energy, Inc. (Puget Sound Energy) filed with the Commission an agreement for a temporary puget sound area and Northern Intertie Redispatch Pilot Program, which establishes a temporary, voluntary redispatch program on the Federal Columbia River Transmission System, which is owned and operated by the Bonneville Power Administration. Puget Sound Energy requests an effective date of December 8, 2004.

Comment Date: 5 p.m. eastern time on February 14, 2005.

27. West Texas Wind Energy Partners, L.P.

[Docket No. ER05-486-000]

Take notice that on January 24, 2005, West Texas Wind Energy Partners, L.P. (West Texas Wind) tendered for filing a notice of cancellation pursuant to 18 CFR 35.15 to reflect the cancellation of its market-based rate tariff, designated as FERC Electric Tariff, Original Volume No. 1, that was originally accepted for filing in Docket No. ER98-1965-000.

West Texas Wind states that copies of the filing were served upon the Florida Public Service Commission.

Comment Date: 5 p.m. eastern time on February 14, 2005.

28. FPL Energy Cowboy Wind, LLC

[Docket No. ER05-487-000]

Take notice that on January 24, 2005, FPL Energy Cowboy Wind, LLC (FPLE Cowboy Wind) submitted an application for market-based rate authority.

FPLE Cowboy Wind states that copies of the filing were served upon the Florida Public Service Commission.

Comment Date: 5 p.m. eastern time on February 14, 2005.

29. Deseret Generation & Transmission Co-operative, Inc.

[Docket No. ER05-491-000]

Take notice that on January 24, 2004, Deseret Generation & Transmission Co-operative, Inc. (Deseret) submitted a filing detailing a wholesale power cost rebate for 2004 to each of its six member cooperatives under Service Agreement Nos. 1 through 6 of FERC Electric Tariff, Original Volume No. 1. Deseret requests an effective date of January 24, 2005.

Deseret states that a copy of this filing has been provided to each of Deseret's members.

Comment Date: 5 p.m. eastern time on February 14, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-418 Filed 2-3-05; 8:45 am]

BILLING CODE 6717-01-P